ENVIRONMENTAL PROTECTION AGENCY

[EPA-HQ-OW-2011-0439; EPA-HQ-OW-2011-0442; EPA-HQ-OW-2011-0443; FRL-9925-45-OW]

Proposed Information Collection Request; Comment Request; Disinfectants/Disinfection Byproducts, Chemical and Radionuclides Rules Renewal Information Collection Request; Microbial Rules Renewal Information Collection Request; Public Water System Supervision Program Renewal Information Collection Request

AGENCY: Environmental Protection Agency (EPA).

ACTION: Notice.

SUMMARY: The U.S. Environmental Protection Agency (EPA) will be submitting renewals of information collection requests (ICRs) to the Office of Management and Budget (OMB) for review and approval in accordance with the Paperwork Reduction Act (PRA; 44 U.S.C. 3501 et seq.). The ICRs included in this renewal notice are the Microbial Rules Renewal Information Collection Request, EPA ICR No. 1895.08, OMB Control No. 2040-0205, which expires on August 31, 2015; the Public Water System Supervision Program Renewal Information Collection Request, EPA ICR No. 0270.46, OMB Control No. 2040-0090, which expires on October 31, 2015; and the Disinfectants/Disinfection Byproducts, Chemical and Radionuclides Rules Renewal Information Collection Request (ICR), EPA ICR No. 1896.10, OMB Control No. 2040-0204, which expires on December 31, 2015. EPA is soliciting public comments on specific aspects of the proposed information collections as described in this renewal notice. The Agency may not conduct or sponsor, and a person is not required to respond to, a collection of information unless it displays a currently valid OMB control number.

DATES: Comments must be submitted on or before June 1, 2015.

ADDRESSES: Submit your comments, referencing the Docket ID numbers provided for each ICR listed in the SUPPLEMENTARY INFORMATION section, online using www.regulations.gov (our preferred method), by email to OW-Docket@epa.gov or by mail to: EPA Docket Center, Environmental Protection Agency, Mail Code 28221T, 1200 Pennsylvania Ave., NW., Washington, DC 20460.

EPA's policy is that all comments received will be included in the public docket without modifications including any personal information provided, unless the comment includes profanity, threats, information claimed to be Confidential Business Information (CBI) or other information whose disclosure is restricted by statute.

FOR FURTHER INFORMATION CONTACT: Kevin Roland, Drinking Water Protection Division, Office of Ground Water and Drinking Water, (4606M), Environmental Protection Agency, 1200 Pennsylvania Ave., NW., Washington, DC 20460; telephone number: 202-564-4588; fax number: 202-564-3755; email address: roland.kevin@epa.gov.

SUPPLEMENTARY INFORMATION: Supporting documents that explain in detail the information that the EPA will be collecting are available in the public dockets for these ICRs. The dockets can be viewed online at www.regulations.gov or in person at the EPA Docket Center, WJC West, Room 3334, 1301 Constitution Ave., NW., Washington, DC. The telephone number for the Docket Center is 202-566-1744. For additional information about EPA's public docket, visit www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility and clarity of the information to be collected; and (iv) minimize the burden of the collection of information on those who are to respond, including through the use of appropriate automated electronic, mechanical, or other technological collection techniques or other forms of information technology, e.g., permitting electronic submission of responses. EPA will consider the comments received and amend the ICRs as appropriate. The final ICR packages will then be submitted to OMB for review and approval. At that time, EPA will issue another Federal Register notice to announce the submission of the ICRs to OMB and the opportunity to submit additional comments to OMB.

EPA ICR No. 1895.08, OW-2011-0442 Microbial Rules Renewal Information Collection Request

Abstract: The Microbial Rules Renewal ICR examines public water system and primacy agency burden and costs for recordkeeping and reporting requirements in support of the microbial drinking water regulations. These recordkeeping and reporting requirements are mandatory for compliance per the Code of Federal Regulations (CFR) at 40 CFR parts 141 and 142. The following microbial regulations are included: the Surface Water Treatment Rule (SWTR), the Total Coliform Rule (TCR), the Revised Total Coliform Rule (RTCR), the Interim Enhanced Surface Water Treatment Rule (IESWTR), the Filter Backwash Recycling Rule (FBRR), the Long Term 1 Enhanced Surface Water Treatment Rule (LT1ESWTR), the Long Term 2 Enhanced Surface Water Treatment Rule (LT2ESWTR), the Ground Water Rule (GWR) and the Aircraft Drinking Water Rule (ADWR). Future microbial-related rulemakings will be added to this consolidated ICR after the regulations are promulgated and the initial, rule-specific, ICRs are due to expire.

Form Numbers: None.

Respondents/affected entities: Entities potentially affected by this action are new and existing public water systems and primacy agencies.

Respondent's obligation to respond: Mandatory for compliance with 40 CFR parts 141 and 142.

Estimated number of respondents: 153,083 (total).

Frequency of response: Varies by requirement (i.e., on occasion, monthly, quarterly, semi-annually and annually).

Total estimated burden: 12,930,414 hours (per year). Burden is defined in 5 CFR 1320.03(b).

Total estimated cost: $590,507,000 (per year), includes $20,386,000 annualized capital and $115,808,000 operation and maintenance costs.

Changes in estimates: There is no estimated increase or decrease of hours in the total estimated respondent burden compared with that identified in the ICR currently approved by OMB.

EPA ICR No. 0270.46, OW-2011-0443 Public Water System Supervision Program Renewal Information Collection Request

Abstract: The Public Water System Supervision (PWSS) Program Renewal ICR examines public water system, primacy agency and tribal operator certification provider burden and costs for “cross-cutting” recordkeeping and reporting requirements (i.e., the burden and costs for complying with drinking water information requirements that are not associated with contaminant-specific rulemakings). The following activities have recordkeeping and reporting requirements that are mandatory for compliance with 40 CFR parts 141 and 142: The Consumer Confidence Report Rule (CCR), the Variance and Exemption Rule (V/E Rule), General State Primacy Activities, the Public Notification Rule (PN) and Proficiency Testing Studies for Drinking Water Laboratories. The information collection activities for both the Operator Certification Program and the Capacity Development Program are driven by the grant withholding and reporting provisions under sections 1419 and 1420, respectively, of the Safe Drinking Water Act. Although the Tribal Operator Certification Program is voluntary, the information collection is driven by grant eligibility requirements outlined in the Drinking Water Infrastructure Grant Tribal Set-Aside Program Final Guidelines and the Tribal Drinking Water Operator Certification Program Guidelines.

Form numbers: None.

Respondents/affected entities: Entities potentially affected by this action are new and existing public water systems and primacy agencies.

Respondent's obligation to respond: Mandatory for compliance with 40 CFR parts 141 and 142.

Estimated number of respondents: 154,938 (total).

Frequency of response: Varies by requirement (i.e., on occasion, monthly, quarterly, semi-annually and annually).

Total estimated burden: 4,113,408 hours (per year). Burden is defined in 5 CFR 1320.03(b).

Total estimated cost: $227,666,000. This includes an estimated burden cost of $40,019,000 for maintenance and operational costs.

Changes in estimates: There is no estimated increase or decrease of hours in the total estimated respondent burden compared with that identified in the ICR currently approved by OMB.

EPA ICR No. 1896.10, OW-2011-0439 Disinfectants/Disinfection Byproducts, Chemical and Radionuclides Rules Information Collection Request

Abstract: The Disinfectants/Disinfection Byproducts, Chemical and Radionuclides Rules ICR examines public water system and primacy agency burden and costs for recordkeeping and reporting requirements in support of the chemical drinking water regulations. These recordkeeping and reporting requirements are mandatory for compliance with 40 CFR parts 141 and 142. The following chemical regulations are included: The Stage 1 Disinfectants and Disinfection Byproducts Rule (Stage 1 DBPR), the Stage 2 Disinfectants and Disinfection Byproducts Rule (Stage 2 DBPR), the Chemical Phase Rules (Phases II/IIB/V), the Radionuclides Rule, the Total Trihalomethanes (TTHM) Rule, Disinfectant Residual Monitoring and Associated Activities under the Surface Water Treatment Rule (SWTR), the Arsenic Rule, the Lead and Copper Rule (LCR) and the Lead and Copper Rule Short Term Revisions. Future chemical-related rulemakings will be added to this consolidated ICR after the regulations are promulgated and the initial, rule-specific, ICRs are due to expire.

Form numbers: None

Respondents/affected entities: Entities potentially affected by this action are new and existing public water systems and primacy agencies.

Respondent's obligation to respond: Mandatory for compliance with 40 CFR parts 141 and 142.

Estimated number of respondents: 153,036.

Frequency of response: Varies by requirement (i.e., on occasion, monthly, quarterly, semi-annually, annually, biennially and every 3, 6 and 9 years).

Total estimated burden: 5,734,335 hours (per year). Burden is defined in 5 CFR 1320.03(b).

Total estimated cost: $435,706,000 (per year), includes $4,984,000 annualized capital and $225,068,000 operation and maintenance costs.

Changes in Estimates: There is no estimated increase or decrease of hours in the total estimated respondent burden compared with that identified in the ICR currently approved by OMB.

Dated: March 20, 2015.
Peter Grevatt,
Director, Office of Ground Water and Drinking Water.

[FR Doc. 2015-07357 Filed 3-30-15; 8:45 am]

BILLING CODE 6560-50-P